DEPARTMENT OF JUSTICE

Office of Justice Programs

[OJP (OJJDP) Docket No. 1412]

Meeting of the Juvenile Justice Advisory Committee

AGENCY: Office of Juvenile Justice and Delinquency Prevention (OJJDP), Office of Justice Programs, Justice.

ACTION: Notice of meeting.

SUMMARY: The Office of Juvenile Justice and Delinquency Prevention is announcing the meeting of the Juvenile Justice Advisory Committee (JJAC) in Washington, DC, on December 9, 2004, at the meeting times and location noted below. The meeting will discuss and approve two annual reports for 2004. The first report contains recommendations to the President and Congress on Federal legislation pertaining to juvenile justice and delinquency prevention. The second report contains recommendations to the Administrator regarding the work of OJJDP. The meeting will also reorganize the JJAC subcommittees and begin discussing recommendations for the 2005 reports.

DATES: The meeting will take place on Thursday, December 9, 2004, from 9 a.m. to 3 p.m., E.D.T.

ADDRESSES: The meeting will take place at the Capital Hilton, 1001 16th Street, NW., Washington, DC 20036.

FOR FURTHER INFORMATION CONTACT: Timothy Wight, Designated Federal Official, OJJDP, at Timothy.Wight@usdoj.gov, or by telephone at (202) 514-2190. [Note: this is not a toll-free number.]

SUPPLEMENTARY INFORMATION: The Juvenile Justice Advisory Committee, established pursuant to sec. 3(2)A of the Federal Advisory Committee Act (5 U.S.C. App. 2), will meet to carry out its advisory functions under sec. 223(f)(2)(C-E) of the Juvenile Justice and Delinquency Prevention Act of 2002. JJAC is composed of one representative from each state and territory and the District of Columbia. Their duties are to review Federal policies regarding juvenile justice and delinquency prevention; advise the OJJDP Administrator with respect to particular functions and aspects of the work of OJJDP; and advise the President and Congress with regard to state perspectives on the operation of OJJDP and federal legislation pertaining to juvenile justice and delinquency prevention. More information on JJAC, including a list of members, may be found at http://www.ojjdp.ncjrs.org/jjac/.

Schedule: The schedule of events is as follows:

9 a.m.-9:15 a.m.—Call to Order by JJAC Chairman (Open Session)

9:15 a.m.-9:45 a.m.—Opening Remarks by OJJDP Administrator J. Robert Flores, followed by questions and answers

9:45 a.m.-10 a.m.—Annual Report Committee: Recommendations to approve the 2004 Annual Report to the President and Congress and the 2004 Annual Recommendations Report to the Administrator of OJJDP

10 a.m.-10:40 a.m.—Reorganization of JJAC Subcommittees (if necessary) in preparation for calendar year 2005 activities

10:45 a.m.-1 p.m.—Working Lunch for JJAC Annual Report, Grants, Legal Affairs, and Planning Subcommittees (Closed Session)

1 p.m.-3 p.m.—Subcommittee Reports (Open Meeting)

3 p.m.—Meeting will be adjourned

Access: Members of the public who wish to attend the open sessions of the meeting should register by sending an e-mail containing their name, affiliation, address, phone number, and a statement concerning the sessions they would like to attend, to JJAC@jjrc.org. If e-mail is not available, please call (301) 519-6473 (Daryel Dunston). Because space is limited, notification should be sent by November 24, 2004.

Written Comments: Interested parties may submit written comments by November 24, 2004, to Timothy Wight, Designated Federal Official for the Juvenile Justice Advisory Committee, OJJDP, at Timothy.Wight@usdoj.gov, or by telephone at (202) 514-2190. [Note: this is not a toll-free number.] No oral presentations will be permitted at this meeting.

Dated: November 10, 2004.
J. Robert Flores,
Administrator, Office of Juvenile Justice and Delinquency Prevention.

[FR Doc. 04-25408 Filed 11-15-04; 8:45 am]

BILLING CODE 4410-18-P